ENVIRONMENTAL PROTECTION AGENCY

[EPA-HQ-OPP-2004-0202; FRL-9916-87]

Pentachloronitrobenzene (PCNB); Cancellation Order for Amendments To Terminate Uses

AGENCY: Environmental Protection Agency (EPA).

ACTION: Notice.

SUMMARY: This notice announces EPA's order for amendments to terminate uses, voluntarily requested by the registrant and accepted by the Agency, of products containing pentachloronitrobenzene (PCNB), pursuant to the Federal Insecticide, Fungicide, and Rodenticide Act (FIFRA). This cancellation order follows a June 6, 2014 Federal Register Notice of Receipt of Requests from the registrant listed in Table 2 of Unit II. to voluntarily amend to terminate certain uses of these product registrations. These are not the last products containing this pesticide registered for use in the United States. In the June 6, 2014 notice, EPA indicated that it would issue an order implementing the amendments to terminate uses, unless the Agency received substantive comments within the 30-day comment period that would merit its further review of these requests, or unless the registrant withdrew its requests. The Agency did not receive any comments on the notice. Further, the registrant did not withdraw its requests. Accordingly, EPA hereby issues in this notice a cancellation order granting the requested amendments to terminate uses. Any distribution, sale, or use of the products subject to this cancellation order is permitted only in accordance with the terms of this order, including any existing stocks provisions.

DATES: The amendments are effective September 24, 2014.

FOR FURTHER INFORMATION CONTACT: Jill Bloom, Pesticide Re-Evaluation Division (7508P), Office of Pesticide Programs, Environmental Protection Agency, 1200 Pennsylvania Ave. NW., Washington, DC 20460-0001; telephone number: (703) 308-8019; email address: bloom.jill@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2004-0202, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the amendments to terminate uses, as requested by the registrant, of products registered under FIFRA section 3. These registrations are listed in sequence by registration number in Table 1 of this unit.

Table 1—PCNB Product Registration Amendments To Delete Uses
EPA registration No. | Product name | Uses deleted
5481-197 | Technical Grade PCNB | African violet; azaleas; bedding plants; begonias; calendula; camellia; carnation; chrysanthemum; larkspur; ornamental flowering plants; poinsettia; roses; snapdragon; and sweet peas. Seed treatments on barley, beans, corn, cotton (acid-delinted, fuzzy, reginned, or mechanically-delinted seed), oats, peanuts, peas, rice, safflower, sorghum, soybeans, sugar beets, and wheat.
5481-8988 | Turfcide 10% Granular | Bedding plants, flowering plants, foliage plants, and bulb crops.
5481-8992 | Turfcide 4F | Bedding plants, flowering plants, foliage plants, azaleas, camellias, gladiolus (broadcast), and cut flowers.

Table 2 of this unit includes the name and address for the registrant of the products in Table 1. The company number corresponds to the first part of the EPA registration numbers of the products listed above in Table 1 of this unit.

Table 2—Registrant of the Amended Products
EPA company No. | Company name and address
5481 | Amvac Chemical Corporation, 4695 MacArthur Ct., Suite 1200, Newport Beach, CA 92660.

III. Summary of Public Comments Received and Agency Response to Comments

During the public comment period provided, EPA received no comments in response to the June 6, 2014 Federal Register notice announcing the Agency's receipt of the requests for voluntary amendments to terminate uses of products listed in Table 1 of Unit II.

IV. Cancellation Order

Pursuant to FIFRA section 6(f), EPA hereby approves the requested amendments to terminate uses of the PCNB registrations identified in Table 1 of Unit II. Accordingly, the Agency hereby orders that the product registrations identified in Table 1 of Unit II. are amended to terminate the affected uses. The effective date of the amendments that are the subject of this notice is September 24, 2014. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of June 6, 2014 (79 FR 32730) (FRL-9911-37). The comment period closed on July 7, 2014.

VI. Provisions for Disposition of Existing Stocks

Existing stocks are those stocks of registered pesticide products which are currently in the United States and which were packaged, labeled, and released for shipment prior to the effective date of the action. The existing stocks provision for the products subject to this order is as follows.

Upon publication of this order, the registrant is no longer permitted to sell or distribute the products listed in Table 1 of Unit II. of this Notice under the previously approved labeling (that is, labeling that includes the use sites for which the registrant has requested termination), except for export consistent with FIFRA section 17 or for proper disposal. The registrant will be permitted to relabel the products listed in Table 1 of Unit II. to conform with the requested use deletions as long as the registrant has verified that the products have been formulated from Technical PCNB that complies with the certified limits as amended on November 23, 2011 and June 13, 2012, and the registrant retains records demonstrating such compliance.

Use of existing stocks of products whose labels include the deleted uses is permitted until supplies are exhausted, provided that such use is consistent with the terms of the previously approved labeling on, or that accompanied, those products.

Authority: 7 U.S.C. 136 et. seq.

Dated: September 16, 2014.
Richard P. Keigwin, Jr.,
Director, Pesticide Re-Evaluation Division, Office of Pesticide Programs.

[FR Doc. 2014-22748 Filed 9-23-14; 8:45 am]

BILLING CODE 6560-50-P